DEPARTMENT OF TRANSPORTATION

Federal Aviation Administration

Sixty-Third Meeting: Subcommittee 186 (SC 186)

AGENCY: Federal Aviation Administration (FAA), U.S. Department of Transportation (DOT).

ACTION: Sixty-Third Meeting Notice of Subcommittee 186.

SUMMARY: The FAA is issuing this notice to advise the public of the sixty-third meeting of Subcommittee 186.

DATES: The meeting will be held June 8th-12th from 9:00 a.m.-5:00 p.m.

ADDRESSES: The meeting will be held at Erzabt-Klotz Strasse 1, 5020 Salzburg, Austria, Tel: (202) 330-0654.

FOR FURTHER INFORMATION CONTACT: The RTCA Secretariat, 1150 18th Street NW., Suite 910, Washington, DC, 20036, or by telephone at (202) 833-9339, fax at (202) 833-9434, or Web site at http://www.rtca.org or Harold Moses, Program Director, RTCA, Inc., hmoses@rtca.org, 202-330-0654.

SUPPLEMENTARY INFORMATION: Pursuant to section 10(a)(2) of the Federal Advisory Committee Act (Pub. L. 92-463, 5 U.S.C., App.), notice is hereby given for a meeting of the NextGen Advisory Committee. The agenda will include the following:

Monday, June 8, 2015

1. All Day, WG-4/EUROCAE Subgroup 3—Application Technical Requirements, University of Salzburg

2. FIM SPR and MOPS FRAC/WC Comment Resolutions

Tuesday, June 9, 2015

1. All Day, WG-4/EUROCAE Subgroup 3—Application Technical Requirements, University of Salzburg

2. FIM SPR and MOPS FRAC/WC Comment Resolutions Official Statement of Designated Federal Official—The Honorable Mike Whitaker, FAA Deputy Administrator

Wednesday, June 10, 2015

1. All Day, WG-4/EUROCAE Subgroup 3—Application Technical Requirements, University of Salzburg

2. FIM SPR and MOPS FRAC/WC Comment Resolutions

Thursday, June 11, 2015

1. All Day, WG-4/EUROCAE Subgroup 3—Application Technical Requirements, Crowne Plaza, University of Salzburg

2. FIM SPR and MOPS FRAC/WC Comment Resolutions

Friday, June 12, 2015

1. Chairman's Introductory Remarks.

2. Review of Meeting Agenda.

3. Review/Approval of the 62nd Meeting Summary, RTCA Paper No. RTCA Paper No. 023-15/SC186-337.

4. Surveillance Broadcast Services (SBS) Program Status

5. European Activities

6. WG-4—Application Technical Requirements

a. Document Approval: Revision A for Safety, Performance, and Interoperability Requirements (SPR) for ASPA-FIM (ED-195A/DO-328A) (RTCA Paper # 059-15/SC-186-340)

b. Document Approval: MOPS for Flight Deck Interval Management (FIM) (RTCA Paper # 057-15/SC-186-338)

c. Advanced Interval Management (A-IM) Development Status

7. Coordination with SC-214/WG-78 for ADS-B Application Data Link Rqts-Status.

8. FAA information briefings

a. Equip 2020

b. Planned TIS-B Service Changes Update

c. Identified TIS-B Open Issues

d. Summary of Avionics Monitoring results

e. Date, Place and Time of Next Meeting.

9. New Business.

a. None

10. Other Business.

a. Aireon Status Update

11. Review Action Items/Work Programs.

12. Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 21, 2015.
Latasha Robinson,
Management & Program Analyst, NextGen, Program Oversight and Administration, Federal Aviation Administration.

[FR Doc. 2015-12956 Filed 5-28-15; 8:45 am]

BILLING CODE 4910-13-P